DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before October 25, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on September 11, 2023.
Donald P. Burger,
Chief, General Approvals and Permits Branch.

Application No. | Applicant | Regulation(s) affected | Nature of the special permits thereof
Special Permits Data
21617-N | Astra Space Operations, Inc | 173.301(f), 173.302a(a)(1) | To authorize the transportation in commerce of non-DOT specification cylinders that are not equipped with pressure relief devices. (spacecraft). (mode 1).
21619-N | Decade Products, LLC | 173.185(f)(1), 173.185(f)(3) | To authorize the manufacture, mark, sale, and use of specially designed packagings for the transportation in commerce of damaged, defective, or recalled lithium cells and batteries, including those contained in or packed with equipment. (modes 1, 2, 3).
21620-N | 3rd Light Ltd. (China) | 172.200(a), 172.320(a), 172.400(a), 172.500(a), 173.60(a), 173.63(b) | To authorize the transportation in commerce of the Division 1.4S articles specified herein as limited quantities. (modes 1, 2).
21624-N | Porsche Logistik GmbH | 172.101(j) | To authorize the transportation in commerce of lithium ion batteries exceeding 35 kg net weight aboard cargo-only aircraft. (mode 4).
21625-N | Brainerd Helicopter Services, Inc | 172.400, 172.101(j), 172.200, 172.204(c)(3), 172.301(c), 173.27(b)(2), 175.75 | To authorize the transportation in commerce of certain hazardous materials by 14 CFR Part 135 aircraft without being subject to certain hazard communication requirements, quantity limitations and certain loading and stowage requirements. (mode 4).
21626-N | The Battery Store LLC | 173.185(a)(1), 173.185(a)(1)(i) | To authorize the transportation of 6 pieces of 12V 100ah lithium ion batteries individually packaged that need to be transported to Hawai'i. (modes 1, 4).
21628-N | Best Pure (USA) Inc | 178.46(a) | To authorize the transportation of carbon dioxide 3AL cartridges within the United States. (mode 1).

[FR Doc. 2023-20731 Filed 9-22-23; 8:45 am]

BILLING CODE P